DEPARTMENT OF HOMELAND SECURITY

Transportation Security Administration

[Docket No. TSA-2005-20118]

Notice of Intent To Request Renewal From the Office of Management and Budget (OMB) of One Current Public Collection of Information; Enhanced Security Procedures for Operations at Certain Airports in the Washington, DC, Metropolitan Area Flight Restricted Zone

AGENCY: Transportation Security Administration (TSA), DHS.

ACTION: Notice.

SUMMARY: TSA invites public comment on one currently approved information collection requirement abstracted below that will be submitted to OMB for renewal in compliance with the Paperwork Reduction Act.

DATES: Send your comments by August 8, 2005.

ADDRESSES: Comments may be mailed or delivered to Katrina Wawer, Information Collection Specialist, Office of Transportation Security Policy, TSA-9, Transportation Security Administration, 601 South 12th Street, Arlington, VA 22202-4220.

FOR FURTHER INFORMATION CONTACT: Ms. Wawer at the above address or by telephone (571) 227-1995 or facsimile (571) 227-2594.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

1652-0029; Enhanced Security Procedures for Operations at Certain Airports in the Washington, DC, Metropolitan Area Flight Restricted Zone (Maryland Three Airports (MD-3)) 49 CFR part 1562. The Federal Aviation Administration initially required this collection under Special Federal Aviation Regulation (SFAR) 94, for which OMB granted approval under control number 2120-0677. The responsibility for the collection was transferred to TSA and assigned OMB control number 1652-0029 with the implementation of an interim final rule (IFR) published on February 10, 2005 (70 FR 7150). This IFR codified and transferred responsibility for ground security requirements and procedures at three Maryland airports that are located within the Washington, DC, Metropolitan Area Flight Restricted Zone, and for individuals operating aircraft to and from these airports, from FAA to TSA. These three airports (Maryland Three Airports) are College Park Airport (CGS), Potomac Airfield (VKX), and Washington Executive/Hyde Field (W32). The information collected is used to determine compliance with 49 CFR part 1562.

Part 1562 allows an individual who is approved by TSA to operate an aircraft to or from one of the Maryland Three Airports. In order to be approved an individual is required to successfully complete a security threat assessment. As part of this threat assessment, an individual is required to undergo a criminal history records check. An individual (pilot or airport security coordinator) also is required to undergo a terrorist threat analysis. This may include a check of terrorist watch lists and other databases to determine whether an applicant poses a security threat or to confirm an applicant's identity. An individual will not receive TSA approval under this analysis if TSA determines or suspects the individual of being a threat to national or transportation security, or of posing a threat of terrorism. The following information must be provided to TSA by prospective pilots and airport security coordinators: full name, social security number, date of birth, address, phone number; and fingerprints.

The current estimated annual reporting burden is 8,299 hours.

Issued in Arlington, Virginia, on June 1, 2005.
Lisa S. Dean,
Privacy Officer.

[FR Doc. 05-11263 Filed 6-6-05; 8:45 am]

BILLING CODE 4910-62-P